DEPARTMENT OF COMMERCE

National Oceanic and Atmospheric Administration

15 CFR Part 922

Intent To Initiate Consultation and Coordinate the National Oceanic and Atmospheric Administration's Responsibilities Under Section 106 of the National Historic Preservation Act (NHPA) With the Ongoing National Environmental Policy Act (NEPA) Process Supporting the Review of the Olympic Coast National Marine Sanctuary Management Plan

AGENCY: Office of National Marine Sanctuaries (ONMS), National Ocean Service (NOS), National Oceanic and Atmospheric Administration (NOAA), Department of Commerce (DOC).

ACTION: Consultation under Section 106 of the NHPA in conjunction with Review of Management Plan/Regulations and associated NEPA public process.

SUMMARY: In accordance with section 304(e) of the National Marine Sanctuaries Act, as amended, (NMSA) (16 U.S.C. 1431 et seq.), the Office of National Marine Sanctuaries (ONMS) of the National Oceanic and Atmospheric Administration (NOAA) has initiated a review of the Olympic Coast National Marine Sanctuary (OCNMS or sanctuary) management plan, to evaluate substantive progress toward implementing the goals for the Sanctuary, and to make revisions to the plan and regulations as necessary to fulfill the purposes and policies of the NMSA (73 FR 53161). The management plan review process occurs concurrently with a public process under the National Environmental Policy Act (NEPA; 42 U.S.C. 4321 et seq.). This notice confirms that NOAA will coordinate its responsibilities under NEPA with those under section 106 of the National Historic Preservation Act (NHPA, 16 U.S.C. 470).

DATES: Comments may be submitted at any time.

ADDRESSES: Written comments may be sent to the Olympic Coast National Marine Sanctuary (Management Plan Review), 115 Railroad Ave. East, Suite 301, Port Angeles, WA 98362, or faxed to (360) 457-8496. Electronic comments may be sent to ocnmsmanagementplan@noaa.gov.

FOR FURTHER INFORMATION CONTACT: George Galasso, 360.457.6622 Ext. 12, ocnmsmanagementplan@noaa.gov.

SUPPLEMENTARY INFORMATION: OCNMS was designated in May 1994. It spans 3,310 square miles of marine waters off the rugged Olympic Peninsula coast, covering much of the continental shelf and the heads of several major submarine canyons. The present management plan was written as part of the sanctuary designation process and published in the Final Environmental Impact Statement in 1993.

In September 2008, NOAA published a Notice of Intent to prepare an Environmental Impact Statement under the authority of NEPA (73 FR 53161). The management plan review process is composed of four major stages: (1) Information collection and characterization; (2) preparation and release of a draft management plan/environmental impact analysis document; (3) public review and comment; (4) preparation and release of a final management plan/environmental impact analysis document, and any final amendments to the regulations. NOAA anticipates completion of the revised management plan and concomitant documents will require approximately thirty-six months from the date of publication of the original notice of intent (37 FR 53161; September 15, 2008). The proposed revised management plan will likely involve changes to existing policies of the Sanctuary in order to address contemporary issues and challenges, and to better protect and manage the Sanctuary's natural resources and qualities and historic properties.

This notice confirms that NOAA will coordinate its responsibilities under section 106 of the National Historic Preservation Act (NHPA, 16 U.S.C. 470) with its ongoing NEPA process, pursuant to 36 CFR 800.8(a)—coordination with NEPA—including the use of NEPA documents and public and stakeholder meetings to also meet the section 106 requirements. The NHPA specifically applies to any agency undertaking that has an adverse effect on historic properties. Pursuant to 36 CFR 800.16(1)(1), historic properties includes: “any prehistoric or historic district, site, building, structure or object included in, or eligible for inclusion in, the National Register of Historic Places maintained by the Secretary of the Interior. The term includes artifacts, records, and remains that are related to and located within such properties. The term includes properties of traditional religious and cultural importance to an Indian tribe * * * and that meet the National Register criteria.”

In coordinating its responsibilities under the NHPA and NEPA, NOAA intends to identify consulting parties; identify historic properties and assess the effects of the undertaking on such properties; initiate formal consultation with the Washington State Historic Preservation Officer, appropriate Tribal Historic Preservation Officers, the Advisory Council of Historic Preservation, and other consulting parties; involve the public in accordance with NOAA's NEPA procedures, and develop in consultation with identified consulting parties alternatives and proposed measures that might avoid, minimize or mitigate any adverse effects on historic properties and describe them in any Environmental Assessment or Draft Environmental Impact Statement.

Authority: 16 U.S.C. 1431 et seq.; 16 U.S.C. 470.

(Federal Domestic Assistance Catalog Number 11.429 Marine Sanctuary Program)

Dated: April 15, 2010.
Daniel J. Basta,
Director for the Office of National Marine Sanctuaries.

[FR Doc. 2010-9203 Filed 4-26-10; 8:45 am]

BILLING CODE 3510-NK-M